NATIONAL FOUNDATION ON THE ARTS AND THE HUMANITIES

Meetings of Humanities Panel

AGENCY: National Endowment for the Humanities.

ACTION: Notice of Meetings.

SUMMARY: Pursuant to section 10(a)(2) of the Federal Advisory Committee Act (5 U.S.C. App.), notice is hereby given that nineteen meetings of the Humanities Panel will be held during April 2014 as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506. See SUPPLEMENTARY INFORMATION section for meeting room numbers.

FOR FURTHER INFORMATION CONTACT: Lisette Voyatzis, Committee Management Officer, 1100 Pennsylvania Ave. NW., Room, 529, Washington, DC 20506, or call (202) 606-8322. Hearing-impaired individuals are advised that information on this matter may be obtained by contacting the National Endowment for the Humanities' TDD terminal at (202) 606-8282.

SUPPLEMENTARY INFORMATION:

Meetings

10. DATE: April 01, 2014

TIME: 8:30 a.m. to 5:00 p.m.

ROOM: 415

This meeting will discuss applications on the subject of Literature for the Scholarly Editions and Translations grant program, submitted to the division of Research Programs.

2. DATE: April 01, 2014

TIME: 8:30 a.m. to 5:00 p.m.

ROOM: 426

This meeting will discuss applications on the subject of History for the Media Projects: Production Grants program, submitted to the division of Public Programs.

3. DATE: April 02, 2014

TIME: 8:30 a.m. to 5:00 p.m.

ROOM: 426

This meeting will discuss applications on the subject of Cultural History/American Studies for the Media Projects: Production Grants program, submitted to the division of Public Programs.

4. DATE: April 02, 2014

TIME: 8:30 a.m. to 5:00 p.m.

ROOM: 415

This meeting will discuss applications on the subject of History for the Scholarly Editions and Translations grant program, submitted to the division of Research Programs.

5. DATE: April 02, 2014

TIME: 8:30 a.m. to 5:00 p.m.

ROOM: 315

This meeting will discuss applications for the Sustaining Cultural Heritage Collections grant program, submitted to the division of Preservation and Access.

6. DATE: April 03, 2014

TIME: 8:30 a.m. to 5:00 p.m.

ROOM: 315

This meeting will discuss applications for the Sustaining Cultural Heritage Collections grant program, submitted to the division of Preservation and Access.

7. DATE: April 03, 2014

TIME: 8:30 a.m. to 5:00 p.m.

ROOM: 426

This meeting will discuss applications on the subject of Art History for the Museums, Libraries, and Cultural Organizations: Implementation Grants program, submitted to the division of Public Programs.

8. DATE: April 03, 2014

TIME: 8:30 a.m. to 5:00 p.m.

ROOM: 415

This meeting will discuss applications on the subject of Arts and Literature for the Scholarly Editions and Translations grant program, submitted to the division of Research Programs.

9. DATE: April 08, 2014

TIME: 8:30 a.m. to 5:00 p.m.

ROOM: Conference Call

This meeting will discuss applications on the subject of History and Culture for the Museums, Libraries, and Cultural Organizations Implementation grant program, submitted to the division of Public Programs.

10. DATE: April 09, 2014

TIME: 8:30 a.m. to 5:00 p.m.

ROOM: 426

This meeting will discuss applications on the subject of History for the Media Projects: Production Grants program, submitted to the division of Public Programs.

11. DATE: April 09, 2014

TIME: 8:30 a.m. to 5:00 p.m.

ROOM: 415

This meeting will discuss applications on the subject of Philosophy and Religion for the Scholarly Editions and Translations grant program, submitted to the division of Research Programs.

12. DATE: April 10, 2014

TIME: 8:30 a.m. to 5:00 p.m.

ROOM: 415

This meeting will discuss applications on the subject of History and Literature for the Scholarly Editions and Translations grant program, submitted to the division of Research Programs.

13. DATE: April 10, 2014

TIME: 8:30 a.m. to 5:00 p.m.

ROOM: 426

This meeting will discuss applications on the subject of World History and Culture for the Museums, Libraries, and Cultural Organizations: Implementation Grants program, submitted to the division of Public Programs.

14. DATE: April 14, 2014

TIME: 8:30 a.m. to 5:00 p.m.

ROOM: 421

This meeting will discuss applications for the Landmarks of American History and Culture: Workshops for School Teachers grant program, submitted to the division of Education Programs.

15. DATE: April 15, 2014

TIME: 8:30 a.m. to 5:00 p.m.

ROOM: 421

This meeting will discuss applications for the Landmarks of American History and Culture: Workshops for School Teachers grant program, submitted to the division of Education Programs.

16. DATE: April 16, 2014

TIME: 8:30 a.m. to 5:00 p.m.

ROOM: 421

This meeting will discuss applications for the Landmarks of American History and Culture: Workshops for School Teachers grant program, submitted to the division of Education Programs.

17. DATE: April 17, 2014

TIME: 8:30 a.m. to 5:00 p.m.

ROOM: 421

This meeting will discuss applications for the Landmarks of American History and Culture: Workshops for School Teachers grant program, submitted to the division of Education Programs.

18. DATE: April 24, 2014

TIME: 8:30 a.m. to 5:00 p.m.

ROOM: Conference Call

This meeting will discuss applications for the National Digital Newspaper Program grant program, submitted to the division of Preservation and Access.

19. DATE: April 29, 2014

TIME: 8:30 a.m. to 5:00 p.m.

ROOM: Conference Call

This meeting will discuss applications on the subject of History and Culture for the Museums, Libraries, and Cultural Organizations: Implementation Grants program, submitted to the division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: March 12, 2014.
Lisette Voyatzis,
Committee Management Officer.

[FR Doc. 2014-05829 Filed 3-14-14; 8:45 am]

BILLING CODE 7537-01-P